DEPARTMENT OF COMMERCE

International Trade Administration

U.S. Travel and Tourism Advisory Board: Meeting of the U.S. Travel and Tourism Advisory Board

AGENCY: International Trade Administration, Commerce.

ACTION: Notice of an open meeting.

SUMMARY: The U.S. Travel and Tourism Advisory Board (Board) will hold a meeting to discuss a Gulf Coast Recovery Plan and a Travel and Tourism Strategic Plan. The Board was established on October 1, 2003, and reconstituted on October 1, 2005, to advise the Secretary of Commerce on matters relating to the travel and tourism industry.

DATES: April 12, 2006.

Time: 3 p.m. to 4:30 p.m. (e.s.t.)

ADDRESSES: Room 4832, U.S. Department of Commerce, 1401 Constitution Avenue, NW., Washington, DC 20230. This program will be physically accessible to people with disabilities. Seating is limited and will be on a first come, first served basis. Because of building security, all non-government attendees must pre-register. Requests for sign language interpretation, other auxiliary aids, or pre-registration, should be submitted no later than April 3, 2006, to J. Marc Chittum, U.S. Travel and Tourism Advisory Board, Room 4043, 1401 Constitution Avenue, NW., Washington, DC 20230, 202-482-4501, Marc.Chittum@mail.doc.gov.

FOR FURTHER INFORMATION CONTACT: J. Marc Chittum, U.S. Travel and Tourism Advisory Board, Room 4043, 1401 Constitution Avenue, NW., Washington, DC 20230, 202-482-4501, Marc.Chittum@mail.doc.gov.

Dated: March 15, 2006.
J. Marc Chittum,
Executive Secretary, U.S. Travel and Tourism Advisory Board.

[FR Doc. E6-4082 Filed 3-20-06; 8:45 am]

BILLING CODE 3510-DR-P